DEPARTMENT OF HOMELAND SECURITY

Federal Emergency Management Agency

[Docket ID FEMA-2014-0002; Internal Agency Docket No. FEMA-B-1461]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 31, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1461, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: December 11, 2014.
Roy E. Wright,
Deputy Associate Administrator for Mitigation, Department of Homeland Security, Federal Emergency Management Agency.

I. Watershed-Based Studies:

Upper Choctawhatchee Watershed
Community | Community map repository address
Coffee County, Alabama, and Incorporated Areas
Maps Available for Inspection Online at: http://www.fema.gov/preliminaryfloodhazarddata
| City of Enterprise | City Hall, 501 South Main Street, Enterprise, AL 36330.
Town of New Brockton | Town Hall, 706 East McKinnon Street, New Brockton, AL 36351.
Unincorporated Areas of Coffee County | 8 County Complex, 1065 East McKinnon Street, New Brockton, AL 36351.
Dale County, Alabama, and Incorporated Areas
City of Daleville | City Hall, 740 South Daleville Avenue, Daleville, AL 36322.
City of Enterprise | City Hall, 501 South Main Street, Enterprise, AL 36330.
City of Fort Rucker | Emergency Management Agency, 453 Novasel Street, Building 114, Fort Rucker, AL 36362.
City of Midland City | City Hall, 1385 Hinton Waters Avenue, Midland City, AL 36350.
City of Ozark | City Hall, 275 North Union Avenue, Ozark, AL 36360.
Town of Ariton | Town Hall, 6 East Main Street, Ariton, AL 36311.
Town of Clayhatchee | Town Hall, 1 West Main Street, Daleville, AL 36322.
Town of Level Plains | Town Hall, 1708 Joe Bruer Road, Daleville, AL 36322.
Town of Newton | Town Hall, 209 Oats Drive, Newton, AL 36352.
Town of Pinckard | Town Hall, 1309 East Highway 134, Pinckard, AL 36371.
Unincorporated Areas of Dale County | Dale County Courthouse, 100 Court Square, Ozark, AL 36361.
Geneva County, Alabama, and Incorporated Areas
City of Geneva | City Hall, 517 South Commerce Street, Geneva, AL 36340.
City of Hartford | City Hall, 203 West Main Street, Hartford, AL 36344.
City of Slocomb | City Hall, 255 Harris Highway, Slocomb, AL 36375.
Town of Coffee Springs | Town Office, 222 East Spring Street, Coffee Springs, AL 36318.
Town of Malvern | Town Hall, 312 South Main Street, Malvern, AL 36349.
Unincorporated Areas of Geneva County | Geneva County Emergency Management Agency, 200 South Commerce Street, Geneva, AL 36340.
Houston County, Alabama, and Incorporated Areas
Unincorporated Areas of Houston County | Houston County Engineer's Office, 2400 Columbia Highway, Dothan, AL 36303.

II. Non-Watershed-Based Studies:

Community | Community map repository address
San Diego County, California, and Incorporated Areas
Maps Available for Inspection Online at: http://www.fema.gov/preliminaryfloodhazarddata
City of Imperial Beach | City Hall, 825 Imperial Beach Boulevard, Imperial Beach, CA 91932.
City of San Diego | Development Services Department, 1222 First Avenue, MS301, San Diego, CA 92101.
Unincorporated Areas of San Diego County | Department of Public Works, Flood Control, 5510 Overland Avenue, Suite 410, San Diego, CA 92123.
Sarasota County, Florida, and Incorporated Areas
Maps Available for Inspection Online at: http://www.fema.gov/preliminaryfloodhazarddata
City of North Port | Building Office, 4970 City Hall Boulevard, North Port, FL 34286.
City of Sarasota | City Hall, 1565 1st Street, Sarasota, FL 34236.
City of Venice | City Hall, 401 West Venice Avenue, Venice, FL 34285.
Town of Longboat Key | Public Works Department, 600 General Harris Street, Longboat Key, FL 34228.
Unincorporated Areas of Sarasota County | Sarasota County Zoning Department, 1001 Sarasota Center Boulevard, Sarasota, FL 34240.

[FR Doc. 2014-30645 Filed 12-30-14; 8:45 am]

BILLING CODE 9110-12-P